ENVIRONMENTAL PROTECTION AGENCY

[FRL-10396-01-R9]

Delegations of the Prevention of Significant Deterioration Air Permitting Program to the Maricopa County Air Quality Department and the Pima County Department of Environmental Quality

AGENCY: United States Environmental Protection Agency (EPA).

ACTION: Notice of delegations of authority.

SUMMARY: This notice announces that the Environmental Protection Agency (EPA), Region 9, has revised its delegation agreements with the Maricopa County Air Quality Department (MCAQD) and Pima County Department of Environmental Quality (PCDEQ) for implementation of the federal Clean Air Act Prevention of Significant Deterioration (PSD) permitting program. The revised and updated delegation agreements authorize these air pollution agencies in Arizona to continue to conduct PSD review for proposed new and modified major stationary sources, issue initial federal PSD permits, and revise existing federal PSD permits, subject to the terms and conditions of the applicable delegation agreement.

DATES: The revised PSD delegation agreements with the MCAQD and the PCDEQ became effective on October 2, 2022, and June 5, 2018, respectively. Pursuant to section 307(b)(1) of the Clean Air Act, 42 U.S.C. 7607(b)(1), judicial review of these final agency actions, to the extent it is available, may be sought by filing a petition for review in the United States Court of Appeals for the Ninth Circuit within 60 days of November 30, 2022.

ADDRESSES: The revised delegation agreements are available on Region 9's website at https://www.epa.gov/caa-permitting/air-permit-delegation-and-psd-sip-approval-status-epas-pacific-southwest-region-9. For additional information, please contact the person identified in the FOR FURTHER INFORMATION CONTACT section.

FOR FURTHER INFORMATION CONTACT: Gerardo Rios, EPA Region 9, 75 Hawthorne Street (AIR-3-1), San Francisco, California 94105. By phone at (415) 972-3974, or by email at rios.gerardo@epa.gov.

SUPPLEMENTARY INFORMATION: Pursuant to 40 CFR 52.21(u), the EPA signed revised PSD delegation agreements with the MCAQD and PCDEQ. The EPA signed a greenhouse gas (GHG) PSD delegation agreement with the MCAQD on October 2, 2022. The EPA also signed a PSD delegation agreement that applies to all PSD pollutants, including both attainment/unclassifiable pollutants and GHGs, with the PCDEQ on June 5, 2018. The delegation agreements authorize these Arizona air pollution agencies to implement the PSD program under sections 160-169 of the Clean Air Act (CAA) and 40 CFR 52.21 for the applicable pollutants, including conducting PSD review and the issuance and revision of PSD permits.

The delegation agreements set forth the terms and conditions according to which the agencies will implement the PSD regulations at 40 CFR 52.21. Under the PSD program, major stationary sources of air pollutants must apply for and receive a permit prior to construction of new facilities or certain modifications to existing facilities.

While the abovementioned Arizona air pollution agencies have been delegated the authority to implement and enforce the PSD program, nothing in the delegation agreements prohibits the EPA from enforcing the PSD provisions of the CAA, the PSD regulations, or the conditions of any PSD permit issued by the air pollution agencies.

Dated: November 23, 2022.
Elizabeth J. Adams,
Director, Air and Radiation Division, Region IX.

[FR Doc. 2022-26086 Filed 11-29-22; 8:45 am]

BILLING CODE 6560-50-P